DEPARTMENT OF DEFENSE

Department of the Army; Corps of Engineers

Withdrawal of the Notice of Intent To Prepare an Environmental Impact Statement (EIS) for the City of Abilene, TX, Cedar Ridge Reservoir Water Supply Project

AGENCY: Department of the Army, U.S. Army Corps of Engineers, DoD.

ACTION: Notice.

SUMMARY: The U.S. Army Corps of Engineers, Fort Worth District, Regulatory Division is notifying interested parties that it has withdrawn the Notice of Intent (NOI) to develop an EIS for the proposed Cedar Ridge Reservoir. The original NOI to Prepare an EIS was published in the Federal Register on Friday, April 13, 2018.

FOR FURTHER INFORMATION CONTACT: Questions regarding the withdrawal of this NOI should be addressed to Mr. Frederick Land, Regulatory Division (CESWF-DE-R), Fort Worth District, U.S. Army Corps of Engineers, P.O. Box 17300, Fort Worth, TX 76102-0300; (817) 886-1729; CedarRidge@usace.army.mil.

SUPPLEMENTARY INFORMATION: On March 20, 2018, the Office of Management and Budget (OMB) and the Council on Environmental Quality (CEQ) issued an OMB/CEQ Memorandum for Heads of Federal Departments and Agencies titled “One Federal Decision Framework for the Environmental Review and Authorization Process for Major Infrastructure Projects under Executive Order [E.O.] 13807.” Additionally, twelve federal agencies, including Department of the Army, signed a Memorandum of Understanding (MOU) as an appendix to the OMB/CEQ Memorandum. The MOU is titled “Memorandum of Understanding Implementing One Federal Decision Under Executive Order 13807” and was effective on April 10, 2018. E.O. 13807 sets a goal for agencies of reducing the time for completing environmental reviews and authorization decisions to an agency average of not more than two years from publication of a NOI to prepare an EIS. The MOU set forth activities to be accomplished before the issuance of an NOI, including project prescoping, the development of a permitting timetable, and the development of project Purpose and Need. Because the Cedar Ridge Reservoir planning had not reached these milestones prior to publication of the NOI, the NOI is being withdrawn until such time that these milestones are complete.

Brenda S. Bowen,
Army Federal Register Liaison Officer.

[FR Doc. 2018-16862 Filed 8-6-18; 8:45 am]

BILLING CODE 3720-58-P